DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2018 End-to-End Census Test—Address Canvassing Operation.

OMB Control Number: 0607-xxxx.

Form Number(s):

DH-31(E/S) Confidentiality Notice.

Listing and Mapping Application Screenshots—screenshots are taken from the legacy tool, LiMA. Screens for the new, in-development tool (ECaSE-ALM) will be comparable.

Type of Request: New Collection.

Number of Respondents: 43,965.

Average Hours Per Response: 5 minutes.

Burden Hours: 3,664 hours.

Needs and Uses:

During the years preceding the 2020 Census, the Census Bureau is pursuing its commitment to reducing the cost of conducting the census while maintaining the quality of the results. The 2018 End-to-End Census Test is the last major test before the 2020 Census and will validate that the 2020 Census design is ready for production from a system, operational and architectural perspective. The Address Canvassing operation is the first operation in the 2018 End-to-End Census Test, with field activity beginning in the summer of 2017. The purpose of the Address Canvassing operation is (1) to deliver a complete and accurate address list and spatial database for enumeration and tabulation, and (2) to determine the type and address characteristics for each living quarter. The Address Canvassing operation consists of two major components: In-Office Address Canvassing and In-Field Address Canvassing. Only the latter component involves collection of information from residents at their living quarters.

The following objectives are crucial to a successful Address Canvassing operation:

• Test the listing and mapping capabilities required by In-Field Address Canvassing

• Validate the creation of In-Field Address Canvassing workload by In-Office Address Canvassing.

• Conduct a listing quality control operation during In-Field Address Canvassing.

The results of this test will inform the Census Bureau's final preparations for the Address Canvassing Operation in advance of the 2020 Census.

Affected Public: Individuals or Households.

Frequency: One time.

Respondent's Obligation: Mandatory.

Legal Authority: Title 13, United States Code, Sections 141 and 193.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
PRA Departmental Lead, Office of the Chief Information Officer.

[FR Doc. 2017-00196 Filed 1-9-17; 8:45 am]

BILLING CODE 3510-07-P